DEPARTMENT OF THE INTERIOR

National Park Service

Notice of Availability of Draft General Management Plan/Environmental Impact Statement for Effigy Mounds National Monument, Iowa

AGENCY: National Park Service, Interior.

SUMMARY: Pursuant to Section 102(2)(C) of the National Environmental Policy Act of 1969, 42 U.S.C. 4332(2)(C), the National Park Service (NPS) announces the availability of a draft General Management Plan (GMP)/Environmental Impact Statement (EIS) for Effigy Mounds National Monument in Harpers Ferry, Iowa.

DATES: The draft GMP/EIS will remain available for public review for 60 days following the publishing of the notice of availability in the Federal Register by the Environmental Protection Agency. Public meetings will be held during the 60-day review period on the GMP/EIS in the Harpers Ferry, Iowa area, in summer 2011. Meeting times and locations will be announced in the local press, sent out to the mailing list for this project and uploaded to the plan Web site at http://www.parkplanning.nps.gov/efmo.

ADDRESSES: Copies of the draft GMP/EIS are available from the Superintendent, Effigy Mounds National Monument at 151 Highway 76, Harpers Ferry, Iowa 52146. The document is also available to be picked up in person at the address shown above.

SUPPLEMENTARY INFORMATION: This document is a revised Draft GMP/EIS for Effigy Mounds National Monument, which replaces the Draft GMP/EIS released in May of 2009. Shortly after that public release, the NPS took a close look at past construction activities and practices in the park, particularly those with the potential to harm the archeological resources the park was created to protect, and decided to substantially revise the draft.

This GMP/EIS will guide the management of the Effigy Mounds National Monument for the next 25 years. The draft GMP/EIS considers three draft conceptual alternatives—a no-action and two action alternatives, including the NPS preferred alternative. The draft GMP/EIS assesses impacts to cultural resources (archeological, landscapes, ethnographic resources, and museum collections), to natural resources (soils, wild and scenic rivers, vegetation, fish and wildlife, special status species, and visual resources/viewsheds), to visitor use and experience, to the socioeconomic environment, and to monument operations and facilities. The preferred alternative focuses on providing an enhanced visitor experience with increased understanding of the monument while protecting and preserving natural and cultural resources. The desired visitor experience would be to make personal connections to the monument's tangible resources through understanding of the significance of the (pre-European contact) American Indian moundbuilding story and its relationship to the heritage of the region. The landscape and visitor facilities would support a contemplative atmosphere with opportunities for the public to spend time reflecting on the lives and legacy of the moundbuilders and the sacred nature of the site today. The natural setting created by preserving or restoring landscapes would provide a connection between the moundbuilding cultures and the environment that shaped their lives and beliefs.

The biggest change proposed in the revised Draft GMP/EIS is the elimination of the Multipurpose Research Center as a physical structure in the monument. While the NPS continues to believe there is tremendous value in promoting and coordinating additional non-invasive research aimed at the mounds and their long-term preservation, we now believe this would best be accomplished by establishing either a virtual research center (via enhanced partnerships and better coordination and cooperation with existing entities), or by establishing a physical presence for the research center outside the monument in a nearby community. Therefore, new construction of facilities and trails at Effigy Mounds National Monument would be minimal under the preferred alternative. Using the direction provided in this plan, specific locations of trails in the Heritage Addition would be identified in a subsequent trail development plan. This plan envisions a small visitor contact station at the Sny Magill unit of the park within an expanded boundary area. Once this land is acquired, subsequent site development planning would determine location and design of the station as well as of redesigned trails for Sny Magill.

FOR FURTHER INFORMATION CONTACT: The Superintendent, Effigy Mounds National Monument, at the address or telephone number above.

You may submit your comments by any one of several methods. You may comment via the Internet through the Web site noted above. You may also send comments to the Superintendent, Effigy Mounds National Monument at the address above. You may contact the Superintendent by phone at 563-873-3491. Finally, you may hand-deliver comments to the Effigy Mounds National Monument headquarters at the address above. Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: April 27, 2011.
Martin A. Sterkel,
Acting Regional Director, Midwest Region.

[FR Doc. 2011-24543 Filed 9-22-11; 8:45 am]

BILLING CODE 4312-93-P